DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of January 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. the sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. there has been a shift in production by such workers' firm or subdivision to a foreign county of articles like or directly competitive with articles which are produced by such firm or subdivision; and

C. One of the following must be satisfied:

1. The country to which the workers' firm has shifted production of the articles is a party to a free trade agreement with the United States;

2. the country to which the workers' firm has shifted production of the articles to a beneficiary country under the Andean Trade Preference Act, African Growth and Opportunity Act, or the Caribbean Basin Economic Recovery Act; or

3. there has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) the workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) a loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-56,156 & A; Spang and Co., Corporate Headquarters, Pittsburgh, PA and Magnetics, a div. of Spang and Company, Pittsburgh, PA

TA-W-56,120; Seneca Foods Corporation, Vegetables Div., Walla Walla, WA

TA-W-56,253; R.G. Barry Corporation, San Angelo, TX

TA-W-56,240; Dorby Frocks, New York, NY

TA-W-56,242; Lexington Precision Corp., Lexington Connector Seals, LaGrange, GA

TA-W-56,284; Hickory Manor House, Sparta, North Carolina Operation, Sparta, NC

TA-W-56,074; Klipstand Manufacturing Co., Inc., Westfield, MA

TA-W-55,880; Pitney Bowes, Inc., Stanford, CT

The workers firm does not produce an article as required for certification under Section 222 of the Trade Act of 1974.

TA-W-56,238; Westpoint Stevens Bed, Bath and Linen Outlet Store, a Div. of Westpoint Stevens Stores, Inc., Myrtle Beach, SC

TA-W-56,218; Veritest, a subsidiary of Lionbridge, Boise, ID

TA-W-56,193; Midwestern Telecommunications, Inc., Homewood, IL

TA-W-56,089; Netgear, Inc., Santa Clara, CA

TA-W-56,231; New DHC, Inc., including on-site leased workers of Combined Management, Inc., Bangor, ME

TA-W-56,183 & A; Sprint Corp., Sprint Business Solutions Div., Emerging and Mid-Markets, Tarboro, NC, Local Consumer Solutions, Rocky Mount, SC

TA-W-56,294; Marsh Advantage America, Spartanburg, SC

TA-W-56,209; Rocket Sales, Inc., Ridgewood, NY

TA-W-56,167; Cigna Healthcare, Service Operations, Chattanooga, TN

TA-W-56,287; Donnkenny Apparel, Inc., a subsidiary of Donnkenny, Inc., Wytheville, VA

TA-W-56,181; Aladdin Industries, LLC, Corporate Headquarters, Nashville, TN

TA-W-56,131; Independence Regional Health Center, Transcription Medical Records Div., a div. of HCA, Inc., Independence, MO

TA-W-56,036; Sprint/United Management Co., SCS Content Center, Bolingbrook, IL

TA-W-56,261; TAC Apparel, U.S. Operations Office, Weston, FL

The investigation revealed that criterion (a)(2)(A)(I.A) and (a)(2)(B)(II.A) (no employment decline) has not been met.

TA-W-56,112; Radisys, including leased workers of Employment Trends, Hillsboro, OR

TA-W-56,184; Johnstown Corporation, Johnstown, PA

The investigation revealed that criterion (a)(2)(A)(I.B) (Sales or production, or both, did not decline) and (a)(2)(B)(II.B) (has shifted production to a country not under the free trade agreement with U.S.) have not been met.

TA-W-56,025; Rockwell Collins, In-Flight Entertainment Div., Pomona, CA

TA-W-56,142; Valenite LLC, Materials R&D, Troy, MI

TA-W-56,152 & A; Flowline Div., of Markovitz Enterprises, Inc., New Castle, PA and Whiteville, NC

The investigation revealed that criteria (a)(2)(A)(I.C) increased imports and (II.C) (has shifted production to a foreign country) have not been met.

TA-W-56,154; J.R. Greene, Inc., Boonton, NJ

TA-W-56,255; Liz Claiborne, Inc., North Bergen, NJ

TA-W-56,174; Maryland Specialty Wire, Inc., Cockeysville, MD

The investigation revealed that criteria (a)(2)(A)(I.B) (Sales or production, or both, did not decline) and (II.C) (has shifted production to a foreign country) have not been met.

TA-W-56,108; Atlas Copco Compressors, Inc., Holyoke, MA

The investigation revealed that criteria (2) has not been met. The workers firm (or subdivision) is not a supplier or downstream producer to trade-affected companies.

TA-W-56,001; Holophane Corp., Acuity Lighting Group, Newark, OH

TA-W-56,111; New Dana Perfumes Corp., Mountaintop, PA

Affirmative Determinations for Worker Adjustment Assistance

The following certifications have been issued; the date following the company name and location of each determination references the impact date for all workers of such determination.

The following certifications have been issued. The requirements of (a)(2)(A) (increased imports) of Section 222 have been met.

TA-W-56,090; American Falcon Corporation, Auburn, ME: November 23, 2003.

TA-W-56,228; Hale Products, Inc., Conshohocken Div., Conshohocken, PA: December 16, 2003.

TA-W-56,163; Gateway Hosiery Mills, Inc., Chattanooga, TN: December 1, 2003.

TA-W-56,023; GDX North America, Inc., Wabash, IN: November 12, 2003.

TA-W-56,097; Foley Wood Products, Inc., including on-site leased workers of Snelling Personnel Service and Express Personnel Service, Ellsworth, WI: November 23, 2003.

TA-W-56,068; Metallic Ventures (US), Inc., a subsidiary of Metallic Ventures Gold, Inc., Hawthorne, NV: November 15, 2003.

TA-W-56,071; Lambert Manufacturing Co., Inc., Glove Div., Plant 3, Chillicothe, MO: November 17, 2003.

TA-W-56,221; Tien-Hu Knitting Co. (US), Inc., Oakland, CA: December 7, 2003.

TA-W-56,232; CRH Catering Co., Inc., Workers at Anchor Glass Container Co, Connellsville, PA: December 16, 2003.

TA-W-56,211; Silkworm, Inc., Andrews, SC: December 13, 2003.

TA-W-56,073; Peake Plastics, Forest Hills, MD: November 23, 2003.

TA-W-56,091; Eagle Ottawa, LLC, Grand Haven Div., Grand Haven, MI: November 8, 2003.

TA-W-56,109; Bonifay Manufacturing, Inc., Bonifay, FL: November 30, 2003.

TA-W-56,060; HCP Packaging USA, Bridgeport, CT: November 19, 2003.

TA-W-56,150; Dicon Fiberoptics, Inc., Richmond, CA: November 22, 2003.

TA-W-56,172; Cooper-Atkins Corp., Gainesville, FL: December 6, 2003.

TA-W-56,113; Murray, Inc., Lawrenceburg, TN: November 15, 2003.

TA-W-56,132; Floyd Manufacturing Co., Inc., East Berlin, CT: November 15, 2003.

TA-W-56,054; Brown Manufacturing, Inc., Marion, North Carolina: November 15, 2003.

TA-W-56,077; EDA Staffing, Workers at Semiconductor Components Industries, LLC, a/k/a On Semiconductor, East Greenwich Div., East Greenwich, RI: November 18, 2003.

TA-W-56,078; Additional Contract Services, Workers at Semiconductor Components Industries, LLC, a/k/a On Semiconductor, East Greenwich Div., East Greenwich, RI: November 18, 2003.

TA-W-56,079; Olsten Professional Staffing, Workers at Semiconductor Components Industries, LLC, East Greenwich Div., East Greenwich, RI: November 18, 2003.

TA-W-56,315; Hitachi Magnetics Corp., Edmore, MI: January 4, 2005.

TA-W-56,243; Hoffman Mills, Inc., Shippensburg, PA: December 16, 2003.

TA-W-56,263; Mount Vernon Mills, Inc., Johnston, SC: January 4, 2005.

TA-W-56,213; BMC Holding, Inc., Div. of Terra Industries, Beaumont, TX: November 30, 2003.

TA-W-56,196; Stern Rubber Co., Staples, MN: December 10, 2003.

TA-W-56,199; Tinnin Garment Co., Inc., Fredericktown, MO: December 13, 2003.

TA-W-56,206; Essilor of America, St. Petersburg, FL: December 6, 2003.

TA-W-56,057; Quaker Fabric Corporation, Plant C, Design Group, Fall River, MA: November 18, 2003.

TA-W-56,134; Tyco Electronics, Power Components (COEV) Div., Watertown, SD: December 2, 2003.

TA-W-56,175; New Time Garment Manufacturing, San Francisco, CA: December 6, 2003.

TA-W-56,192; Douglas Battery Manufacturing Co., including on-site leased workers of Temporary Resources, Adecco and CPI, Winston-Salem, NC: December 8, 2003.

TA-W-56,053; Gilman Engineering and Manufacturing Co. LLC, including on-site leased workers of Van Marter and Associates, inc., Advanced Project Services LLC, Techstaff of Milwaukee, Inc., Argus and Associates, Inc., and Hantech LLC, Janesville, WI: November 6, 2004.

TA-W-56,301; Diamond Products, St. Paul, MN: January 7, 2004.

TA-W-56,082; Cooper Tire and Rubber Co., Inner Tube Associates, Clarksdale, MS: November 23, 2003.

TA-W-56,062; Express Personnel, Workers at Cooper Standard Automotive, North American Sealing Systems, Griffin, GA: November 22, 2003.

The following certifications have been issued. The requirements of (a) (2) (B) (shift in production) of Section 222 have been met.

TA-W-56,081; Starkey Laboratories, Glencoe, MN: September 12, 2004.

TA-W-56,220; ITW Shakeproof, Guttenberg, IA: December 14, 2003.

TA-W-56,128; UFE, Inc., River Falls Molding Div., River Falls, WI: November 3, 2003.

TA-W-56,203; Metalforming Technologies, Inc., Safety Systems Div., including on-site leased workers of Adecco, Burton, MI: December 9, 2003.

TA-W-56,188; Symbol Technologies, Inc., Operations Division, including on-site leased workers of Next Source, Bohemia, NY: November 10, 2003.

TA-W-56,178; Electrolux Home Products, St. Cloud, MN: December 7, 2003.

TA-W-56,137; Gates Corp., Hose and Connectors Div., Galesburg Facility, a subsidiary of Tomkins, PLC, Galesburg, IL: December 2, 2003.

TA-W-56,138 & A; Money's Foods U.S., Inc., Fennville, MI and Howe, IN: November 24, 2003.

TA-W-56,147; Innovex, Inc., including on-site leased workers of The Work Connection, Maple Plain, MN: December 2, 2003.

TA-W-56,158; Square D/Schneider Electric, Columbia, MO: January 4, 2005.

TA-W-56,162; Visteon Systems, LLC, 6MM Condenser Operations, Connersville, IN: December 10, 2003.

TA-W-56,168; AG Communication Systems, a div. of Lucent Technologies, Genoa, IL: December 3, 2003.

TA-W-56,101; Concord Fabrics, Inc., including on-site leased workers of Randstad Staffing, Milledgeville, GA: June 18, 2004.

TA-W-56,072; Fiberconn Assemblies, Inc, Lodan Totowa Div., a subsidiary of Emerson, Telephone Services, Inc., Totowa, NJ: November 19, 2003.

TA-W-56,104; Pentair Pump, South Plant (Hydromatic), subsidiary of Pentair, Inc., Ashland, OH: November 15, 2003.

TA-W-56,269; STS Weaving, LLC, St. Albans, VT: December 29, 2003.

TA-W-56,244; Children's Group, Inc., Magic Cabin Div., Viroqua, WI: December 16, 2003.

TA-W-56,245; Randstad North America, Workers at Schnadig Corp., 101-Cornelia Div., Cornelia, GA: December 20, 2003.

TA-W-56,212 & A; Keystone Restyling Products, Production Facility, Toledo, OH and Shipping/Receiving Warehouse, Toledo, OH: December 7, 2003.

TA-W-56,153; Bredero Shaw LLC, a subsidiary of Shawcor, Inc., including leased workers of ACO Employment, Clark Personnel and Longs, Theodore, AL: December 2, 2003.

TA-W-56,166; The Lilli Group, Inc., South Hackensack, NJ: December 6, 2003.

TA-W-56,197; Designer's Group International, Designer's Group, Inc., a div of Chippenhook, including on-site leased workers of Randstad Staffing and Staffing Consultants, North Stonington, CT: December 9, 2003.

TA-W-56,176; Spirit Manufacturing Co., Inc., Jonesboro, AR: December 7, 2003.

TA-W-56,198; Specialty Electronics, Inc., Landrum, SC: December 10, 2003.

TA-W-56,233; Celestica, San Jose, CA: December 6, 2003.

TA-W-56,136; Gretagmacbeth, LLC, Production/Assembly, New Windsor, NY: June 8, 2004.

TA-W-56,283; Service Manufacturing, Weslaco, TX: December 13, 2003.

TA-W-56,297; Dicey Mills, Inc., Shelby, NC: January 3, 2004.

TA-W-56,148; Ozark Electronics, Cullman Alabama, Inc., a subsidiary of Ozark Electronics Repair, Inc., including on-site leased workers of Cullman Employment Center, Cullman, AL: December 2003.

TA-W-56,059; Louisiana Pacific Corp., OSB-Woodland, Baileyville, ME: November 18, 2003.

TA-W-56,139; Interdynamics, Inc., Brooklyn, NY: December 3, 2003.

TA-W-56,217; Kyocera Wireless Corp., a subsidiary of Kyocera International, including leased workers of Manpower Staffing Services, San Diego, CA: December 12, 2003.

The following certifications have been issued.

The requirement of upstream supplier to a trade certified primary firm has been met.

TA-W-55,877; Electronic Data Systems, on-site leased workers at Maxtor Corporation, Longmont, CA: October 21, 2003.

TA-W-55,978; Shakespeare Co., LLC, Monofilament Div., Columbia, SC: November 5, 2003.

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department as determined that criterion (2) of Section 246 has not been met. Workers at the firm possess skills that are easily transferable.

TA-W-56,082; Cooper Tire and Rubber Co., Inner Tube Associates, Clarksdale, MS

TA-W-56,301; Diamond Products, St. Paul, MN

TA-W-56,217; Kyocera Wireless Corp., a subsidiary of Kyocera International, including leased workers of Manpower Staffing Services, San Diego, CA

TA-W-56,139; Interdynamics, Inc., Brooklyn, NY

TA-W-56,059; Louisiana Pacific Corporation, OSB—Woodland, Baileyville, ME

TA-W-55,978; Shakespeare Co., LLC, Monofilament Div., Columbia, SC

TA-W-56,062; Express Personnel, Workers at Cooper Standard Automotive, North American Sealing Systems, Griffin, GA

TA-W-54,164; Maida Development Co., including leased workers of Integrity Staffing Services, Hampton, VA

TA-W-53,119; Orrco, Inc., Killbuck, OH

TA-W-52,909; Dolly, Inc., including leased workers of CBS Personnel and Express Personnel, Tipp City, OH

TA-W-54,033; Aluminum Color Industries, Inc., Lowellville, OH

TA-W-53,699; Tomlinson Industries, Cleveland, OH

The Department as determined that criterion (1) of Section 246 has not been met. Workers at the firm are 50 years of age or older.

TA-W-56,148; Ozark Electronics Cullman Alabama, Inc., a subsidiary of Ozark Electronics Repair, Inc., including on-site leased workers of Cullman Employment Center, Cullman, AL

Since the workers are denied eligibility to apply for TAA, the workers cannot be certified eligible for ATAA.

TA-W-56,231; New DHC, Inc., including on-site leased workers of Combined Management, Inc., Bangor, ME

TA-W-56,183 & A; Sprint Corp., Sprint Business Solutions Div., Emerging and Mid-Markets, Tarboro, NC and Local Consumer Solutions, Rock Mount, NC

TA-W-56,294; Marsh Advantage America, Spartanburg, SC

TA-W-56,209; Rocket Sales, Inc., Ridgewood, NY

TA-W-56,167; Cigna Healthcare, Service Operations, Chattanooga, TN

TA-W-56,287; Donnkenny Apparel, Inc., a subsidiary of Donnkenny, Inc., Wytheville, VA

TA-W-56,181; Aladdin Industries, LLC, Corporate Headquarters, Nashville, TN

TA-W-56,131; Independence Regional Health Center, Transcription Medical Records Division, a Division of HCA, Inc., Independence, MO

TA-W-56,036; Sprint/United Management Co., SCS Content, Boilingbrook, IL

TA-W-56,261; TAC Apparel, U.S. Operations Office, Weston, FL

TA-W-56,156 & A; Spang and Company, Corporate Headquarters, Pittsburgh, PA and Magnetics, a Division of Spang and Company, Pittsburgh, PA

TA-W-56,120; Seneca Foods Corporation, Vegetables Division, Walla Walla, WA

TA-W-56,253; R.G. Barry Corp., San Angelo, TX

TA-W-56,240; Dorby Frocks, New York, NY

TA-W-56,242; Lexington Precision Corporation, Lexington Connector Seals, LaGrange, GA

TA-W-56,284; Hickory Manor House, Sparta, North Carolina Operation, Sparta, NC

TA-W-56,074; Klipstand Manufacturing Co., Inc., Westfield, MA

TA-W-55,889; Pitney Bowes, Inc., Stanford, CT

TA-W-56,112; Radisys, including leased workers of Employment Trends, Hillsboro, OR

TA-W-56,184; Johnstown Corporation, Johnstown, PA

TA-W-56,025; Rockwell Collins In-flight Entertainment Div., Pomona, CA

TA-W-56,142; Valenite LLC, Materials R&D, Troy, MI

TA-W-56,152 & A; Flowline Div. of Markovitz Enterprises, Inc., New Castle, PA and Whiteville, NC

TA-W-56,154; J.R. Greene, Inc., Boonton, NJ

TA-W-56,255; Liz Claiborne, Inc., North Bergen, NJ

TA-W-56,174; Maryland Specialty Wire, Inc., Cockeysville, MD

TA-W-56,001; Holophane Corporation, Acuity Lighting Group, Newark, OH

TA-W-56,111; New Dana Perfumes Corp., Mountaintop, PA

TA-W-56,108; Atlas Copco Compressors, Inc., Holyoke, MA

Affirmative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-56,090; American Falcon Corporation, Auburn, ME: November 23, 2003.

TA-W-56,228; Hale Products, Inc., Conshohocken Div., Conshohocken, PA: December 16, 2003.

TA-W-56,163; Gateway Hosiery Mills, Inc., Chattanooga, TN: December 1, 2003.

TA-W-56,023; GDX North America, Inc., Wabash, IN: November 12, 2003.

TA-W-56,097; Foley Wood Products, Inc., including on-site leased workers of Snelling Personnel Service and Express Personnel Service, Ellsworth, WI: November 23, 2003.

TA-W-56,068; Metallic Ventures (US), Inc., a subsidiary of Metallic Ventures Gold, Inc., Hawthorne, NV: November 15, 2003.

TA-W-56,071; Lambert Manufacturing Co., Inc., Glove Div., Plant 3, Chillicothe, MO: November 17, 2003.

TA-W-56,221; Tien-Hu Knitting Co. (US), Inc., Oakland, CA: December 7, 2003.

TA-W-56,232; CRH Catering Co., Inc., Workers at Anchor Glass Container Co, Connellsville, PA: December 16, 2003.

TA-W-56,211; Silkworm, Inc., Andrews, SC: December 13, 2003.

TA-W-56,073; Peake Plastics, Forest Hills, MD: November 23, 2003.

TA-W-56,091; Eagle Ottawa, LLC, Grand Haven Div., Grand Haven, MI: November 8, 2003.

TA-W-56,109; Bonifay Manufacturing, Inc., Bonifay, FL: November 30, 2003.

TA-W-56,060; HCP Packaging USA, Bridgeport, CT: November 19, 2003.

TA-W-56,150; Dicon Fiberoptics, Inc., Richmond, CA: November 22, 2003.

TA-W-56,172; Cooper-Atkins Corp., Gainesville, FL: December 6, 2003.

TA-W-56,113; Murray, Inc., Lawrenceburg, TN: November 15, 2003.

TA-W-56,132; Floyd Manufacturing Co., Inc., East Berlin, CT: November 15, 2003.

TA-W-56,054; Brown Manufacturing, Inc., Marion, North Carolina: November 15, 2003.

TA-W-56,077; EDA Staffing, Workers at Semiconductor Components Industries, LLC, a/k/a On Semiconductor, East Greenwich Div., East Greenwich, RI: November 18, 2003.

TA-W-56,078; Additional Contract Services, Workers at Semiconductor Components Industries, LLC, a/k/a On Semiconductor, East Greenwich Div., East Greenwich, RI: November 18, 2003.

TA-W-56,079; Olsten Professional Staffing, Workers at Semiconductor Components Industries, LLC, East Greenwich Div., East Greenwich, RI: November 18, 2003.

TA-W-56,315; Hitachi Magnetics Corp., Edmore, MI: January 4, 2005.

TA-W-56,243; Hoffman Mills, Inc., Shippensburg, PA: December 16, 2003.

TA-W-56,263; Mount Vernon Mills, Inc., Johnston, SC: January 4, 2005.

TA-W-56,213; BMC Holding, Inc., Div. of Terra Industries, Beaumont, TX: November 30, 2003.

TA-W-56,196; Stern Rubber Co., Staples, MN: December 10, 2003.

TA-W-56,199; Tinnin Garment Co., Inc., Fredericktown, MO: December 13, 2003.

TA-W-56,206; Essilor of America, St. Petersburg, FL: December 6, 2003.

TA-W-56,057; Quaker Fabric Corporation, Plant C, Design Group, Fall River, MA: November 18, 2003.

TA-W-56,134; Tyco Electronics, Power Components (COEV) Div., Watertown, SD: December 2, 2003.

TA-W-56,175; New Time Garment Manufacturing, San Francisco, CA: December 6, 2003.

TA-W-56,192; Douglas Battery Manufacturing Co., including on-site leased workers of Temporary Resources, Adecco and CPI, Winston-Salem, NC: December 8, 2003.

TA-W-56,053; Gilman Engineering and Manufacturing Co. LLC, including on-site leased workers of Van Marter and Associates, inc., Advanced Project Services LLC, Techstaff of Milwaukee, Inc., Argus and Associates, Inc., and Hantech LLC, Janesville, WI: November 6, 2004.

TA-W-56,178; Electrolux Home Products, St. Cloud, MN: December 7, 2003.

TA-W-56,137; Gates Corp., Hose and Connectors Div., Galesburg Facility, a subsidiary of Tomkins, PLC, Galesburg, IL: December 2, 2003.

TA-W-56,138 & A; Money's Foods U.S., Inc., Fennville, MI and Howe, IN: November 24, 2003.

TA-W-56,147; Innovex, Inc., including on-site leased workers of The Work Connection, Maple Plain, MN: December 2, 2003.

TA-W-56,158; Square D/Schneider Electric, Columbia, MO: January 4, 2005.

TA-W-56,162; Visteon Systems, LLC, 6MM Condenser Operations, Connersville, IN: December 10, 2003.

TA-W-56,168; AG Communication Systems, a div. of Lucent Technologies, Genoa, IL: December 3, 2003.

TA-W-56,101; Concord Fabrics, Inc., including on-site leased workers of Randstad Staffing, Milledgeville, GA: June 18, 2004.

TA-W-56,072; Fiberconn Assemblies, Inc., Lodan Totowa Div., a subsidiary of Emerson, Telephone Services, Inc., Totowa, NJ: November 19, 2003.

TA-W-56,104; Pentair Pump, South Plant (Hydromatic), subsidiary of Pentair, Inc., Ashland, OH: November 15, 2003.

TA-W-56,269; STS Weaving, LLC, St. Albans, VT: December 29, 2003.

TA-W-56,244; Children's Group, Inc., Magic Cabin Div., Viroqua, WI: December 16, 2003.

TA-W-56,245; Randstad North America, Workers at Schnadig Corp., 101-Cornelia Div., Cornelia, GA: December 20, 2003.

TA-W-56,212 & A; Keystone Restyling Products, Production Facility, Toledo, OH and Shipping/Receiving Warehouse, Toledo, OH: December 7, 2003.

TA-W-56,153; Bredero Shaw LLC, a subsidiary of Shawcor, Inc., including leased workers of ACO Employment, Clark Personnel and Longs, Theodore, AL: December 2, 2003.

TA-W-56,166; The Lilli Group, Inc., South Hackensack, NJ: December 6, 2003.

TA-W-56,197; Designer's Group International, Designer's Group, Inc., a div of Chippenhook, including on-site leased workers of Randstad Staffing and Staffing Consultants, North Stonington, CT: December 9, 2003.

TA-W-56,176; Spirit Manufacturing Co., Inc., Jonesboro, AR: December 7, 2003.

TA-W-56,198; Specialty Electronics, Inc., Landrum, SC: December 10, 2003.

TA-W-56,233; Celestica, San Jose, CA: December 6, 2003.

TA-W-56,136; Gretagmacbeth, LLC, Production/Assembly, New Windsor, NY: June 8, 2004.

TA-W-56,283; Service Manufacturing, Weslaco, TX: December 13, 2003.

TA-W-56,297; Dicey Mills, Inc., Shelby, NC: January 3, 2004.

TA-W-55,877; Electronic Data Systems, on-site leased workers at Maxtor Corp., Longmont, CA: October 21, 2003.

TA-W-55,314 & A; The Production Department, Confluence, PA and Gateway Sportswear Corp., a subsidiary of The Production Department, Confluence, PA: February 11, 2003 through March 26, 2006.

TA-W-52,443; Formica Corp., Evendale Facility, Cincinnati, OH: July 31, 2002 through August 8, 2005.

TA-W-52,072; Colson Associates, Inc., a div. of Colson Caster Corporation, Jonesboro, AR: June 16, 2002 through August 15, 2005.

TA-W-52,453; National Metal Abrasives, Inc., Wadsworth, OH: July 30, 2002 through September 3, 2005.

TA-W-53,264; Burlington House Finishing, a div. of Burlington House, Burlington, NC: October 10, 2002 through November 13, 2005.

TA-W-54,335; Fiber Industries, Inc., a subsidiary of Wellman, Inc., including leased workers of Pinnacle Staffing and BE&K, Charlotte, NC: February 10, 2003 through March 26, 2006.

TA-W-54,249; VF Jeanswear Limited Partnership, a subsidiary of VF Corp., Irvington, AL: February 12, 2003 through March 11, 2006.

TA-W-52,951; T&W Forge, Inc., div. of Durrell Corp., Alliance, OH: August 29, 2002.

TA-W-53,921; Pac-Tec, Inc., d/b/a Ray-O-Lite Pavement Markers & Palm-N-Turn, including leased workers of Diversivied Services Group, Heath, OH: December 19, 2002 through January 27, 2006.

TA-W-54,661; Gordon Garment, div. of AH Schreiber Co., Inc., Bristol, VA: March 23, 2003 through May 12, 2006.

TA-W-54,332; Springs Industries, Inc., Bedding Div., Lyman Finishing Plant, Lyman, SC: February 12, 2003 through March 24, 2006.

TA-W-53,183; Group Seven Systems, Inc., Lenoir, NC: October 3, 2002 through November 19, 2005.

TA-W-52,809; Janef, Inc. T/A Alperin Mayflower, Old Forge, PA: August 14, 2002 through October 3, 2005.

TA-W-52,340; RST&B Curtain and Drapery, Florence, SC: July 17, 2002 through August 6, 2005.

TA-W-53,227; Voith Paper, Voith Paper Service Southeast Div., Salisbury, NC: October 13, 2002 through November 5, 2005.

TA-W-52,349; Terry Apparel, a/k/a Mariana Apparel, Mariana, AR: July 18, 2002 through August 8, 2005.

TA-W-53,517; Howell Penncraft, Howell, MI: October 28, 2002 through December 8, 2005.

TA-W-53,096; H. Warshow and Sons, Inc., Milton, PA: September 17, 2002 through November 21, 2005.

TA-W-52,708; Carolina Pad and Paper, Charlotte, NC: August 25, 2002 through September 25, 2005.

TA-W-53,410; Nidec America Corp., ADF Div. Canton, MA: October 28, 2002 through December 4, 2005

I hereby certify that the aforementioned determinations were issued during the month of January 2005. Copies of these determinations are available for inspection in Room C-5311, U.S. Department of Labor, 200 Constitution Avenue, NW., Washington, DC 20210 during normal business hours or will be mailed to persons who write to the above address.

Date: January 28, 2005.
Timothy Sullivan,
Director, Division of Trade Adjustment Assistance.

[FR Doc. E5-463 Filed 2-4-05; 8:45 am]

BILLING CODE 4510-30-P